DEPARTMENT OF TRANSPORTATION

Federal Aviation Administration

14 CFR Part 39

[Docket No. 2001-NM-333-AD; Amendment 39-13464; AD 2004-03-20]

RIN 2120-AA64

Airworthiness Directives; Fokker Model F.28 Mark 1000, 2000, 3000, and 4000 Series Airplanes

AGENCY: Federal Aviation Administration, DOT.

ACTION: Final rule.

SUMMARY: This amendment adopts a new airworthiness directive (AD), applicable to certain Fokker Model F.28 Mark 1000, 2000, 3000, and 4000 series airplanes, that requires repetitive general visual inspections, lubrication, and tests of the release mechanism for the service/emergency door; and corrective actions if necessary. This AD also provides an optional terminating action for the repetitive inspections and lubrication. This action is necessary to prevent failure of the release mechanism on the service/emergency door, which could result in the inability to open the service/emergency door during an emergency evacuation. This action is intended to address the identified unsafe condition.

DATES: Effective March 17, 2004.

The incorporation by reference of certain publications listed in the regulations is approved by the Director of the Federal Register as of March 17, 2004.

ADDRESSES: The service information referenced in this AD may be obtained from Fokker Services B.V., P.O. Box 231, 2150 AE Nieuw-Vennep, the Netherlands. This information may be examined at the Federal Aviation Administration (FAA), Transport Airplane Directorate, Rules Docket, 1601 Lind Avenue, SW., Renton, Washington; or at the Office of the Federal Register, 800 North Capitol Street, NW., Suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Fokker Model F.28 Mark 1000, 2000, 3000, and 4000 series airplanes was published in the Federal Register on December 5, 2003 (68 FR 67981). That action proposed to require repetitive general visual inspections, lubrication, and tests of the release mechanism for the service/emergency door; and corrective actions if necessary. That action also proposed an optional terminating action for the repetitive inspections and lubrication.

Comments

Interested persons have been afforded an opportunity to participate in the making of this amendment. No comments were submitted in response to the proposal or the FAA's determination of the cost to the public.

Conclusion

We have determined that air safety and the public interest require the adoption of the rule as proposed.

Cost Impact

We estimate that 6 airplanes of U.S. registry will be affected by this AD, that it will take approximately 15 work hours per airplane to accomplish the required actions, and that the average labor rate is $65 per work hour. Based on these figures, the cost impact of the AD on U.S. operators is estimated to be $5,850, or $975 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-20 Fokker Services B.V: Amendment 39-13464. Docket 2001-NM-333-AD.

Applicability: Model F.28 Mark 1000, 2000, 3000, and 4000 series airplanes; as listed in the effectivity of Fokker Service Bulletin F28/52-118, dated June 25, 2001; certificated in any category.

Compliance: Required as indicated, unless accomplished previously.

To prevent failure of the release mechanism on the service/emergency door, which could result in the inability to open the service/emergency door during an emergency evacuation, accomplish the following:

Inspection, Lubrication, Testing, and Corrective Actions

(a) Within 12 months after the effective date of this AD: Do a general visual inspection (including measurement of the torque for the actuating mechanism torsion spring), lubricate, and test to verify proper operation of the emergency release mechanism of the service/emergency door by accomplishing all of the actions specified in paragraphs A. through R. of the Accomplishment Instructions of Fokker Service Bulletin F28/52-118, dated June 25, 2001.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) If no discrepant or corroded part is found during the inspection required by paragraph (a) of this AD: Repeat the actions specified in paragraph (a) of this AD thereafter at intervals not to exceed 1,500 flight hours or 18 months, whichever occurs first.

(2) If any discrepancy (including a torque value that exceeds the limits specified in the applicable service bulletin, an improperly installed part, or a damaged part) is found, or if a corroded part is found, during any inspection required by paragraph (a) of this AD: Before further flight, do the applicable corrective action in accordance with the Accomplishment Instructions of the service bulletin. Repeat the actions specified in paragraph (a) of this AD thereafter at intervals not to exceed 1,500 flight hours or 18 months, whichever occurs first.

Optional Terminating Action and Concurrent Service Bulletin

(b) Replacement of the Bowden cable-operated service/emergency door with a push-pull rod-operated service/emergency door, in accordance with Fokker Service Bulletin F28/52-89, dated October 31, 1983, constitutes terminating action only for the repetitive inspections and lubrication required by paragraph (a) of this AD.

(c) For airplanes with serial numbers 11003 to 11051 inclusive, 11991, and 11992: Prior to or concurrent with paragraph (b) of this AD, accomplish the modification specified in part VII of Fokker Service Bulletin F28/52-55, Revision 1, dated February 28, 1977.

Alternative Methods of Compliance

(d) In accordance with 14 CFR 39.19, the Manager, International Branch, ANM-116, Transport Airplane Directorate, FAA, is authorized to approve alternative methods of compliance for this AD.

Incorporation by Reference

(e) The actions shall be done in accordance with Fokker Service Bulletin F28/52-118, dated June 25, 2001. This incorporation by reference was approved by the Director of the Federal Register in accordance with 5 U.S.C. 552(a) and 1 CFR part 51. Copies may be obtained from Fokker Services B.V., P.O. Box 231, 2150 AE Nieuw-Vennep, the Netherlands. Copies may be inspected at the FAA, Transport Airplane Directorate, 1601 Lind Avenue, SW., Renton, Washington; or at the Office of the Federal Register, 800 North Capitol Street, NW., Suite 700, Washington, DC.

Note 2: The subject of this AD is addressed in Dutch airworthiness directive 2001-094, dated July 31, 2001.

Effective Date

(f) This amendment becomes effective on March 17, 2004.

Issued in Renton, Washington, on January 30, 2004.
Kalene C. Yanamura,
Acting Manager, Transport Airplane Directorate, Aircraft Certification Service.

[FR Doc. 04-2573 Filed 2-10-04; 8:45 am]

BILLING CODE 4910-13-P